NATIONAL SCIENCE FOUNDATION

Agency Information Collection Activities: Comment Request

AGENCY: National Science Foundation.

ACTION: Submission for OMB Review; comment request.

SUMMARY: The National Science Foundation (NSF) has submitted the following information collection requirement to OMB for review and clearance under the Paperwork Reduction Act of 1995, Public Law 104-13. This is the second notice for public comment; the first was published in the Federal Register at 80 FR 16030 and no comments were received. NSF is forwarding the proposed renewal submission to the Office of Management and Budget (OMB) for clearance simultaneously with the publication of this second notice. The full submission may be found at: http://www.reginfo.gov/public/do/PRAMain.

Comments: Comments regarding this information collection are best assured of having their full effect if received within 30 days of this notification. Copies of the submission(s) may be obtained by calling 703-292-7556. Comments regarding (a) whether the collection of information is necessary for the proper performance of the functions of the NSF, including whether the information will have practical utility; (b) the accuracy of the NSF's estimate of the burden of the proposed collection of information; (c) ways to enhance the quality, utility and clarity of the information to be collected, including through the use of automated collection techniques or other forms of information technology; (d) ways to minimize the burden of the collection of information on those who are to respond, including through the use of appropriate automated or other forms of information technology should be addressed to: Office of Information and Regulatory Affairs of OMB, Attention: Desk Officer for National Science Foundation, 725 7th Street NW., Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

NSF may not conduct or sponsor a collection of information unless the collection of information displays a currently valid OMB control number and the agency informs potential persons who are to respond to the collection of information that such persons are not required to respond to the collection of information unless it displays a currently valid OMB control number.

SUPPLEMENTARY INFORMATION: Title of Collection: Survey of Science and Engineering Research Facilities.

OMB Control Number: 3145-0101.

Summary of Collection: The National Science Foundation Survey of Science and Engineering Research Facilities is a Congressionally mandated (Pub. L. 99-159; NSF Act of 1950, as amended; America COMPETES Reauthorization Act of 2010), biennial survey that has been conducted since 1986. As required by law, the survey collects data on the amount, condition, and costs of the physical facilities used to conduct science and engineering research. Congress expected this survey to provide the data necessary to describe the status and needs of science and engineering research facilities. Data on computing and networking capacity, often termed “cyberinfrastructure” were collected from 2003 to 2013. These questions are being eliminated from future questionnaires based on a review by NSF that indicated the data did not provide clear and useful metrics for measuring cyberinfrastructure.

Use of the Information: Analysis of the Facilities Survey data will provide updated information on the status of scientific and engineering research facilities and capabilities. In order to provide consistency and comparability across national academic surveys, the data collection field of “agricultural sciences and natural sciences” will be divided into two fields: (1) Agricultural sciences and (2) natural resources and conservation. “Physical sciences, group 1: Atmospheric, earth, and geological sciences; meteorology; and oceanography” will be renamed “geosciences, atmospheric, and ocean sciences,” and will include appropriate subfield examples. “Physical sciences, group 2: Astronomy, astrophysics, chemistry, materials sciences, and physics” will be renamed “physical sciences,” and will include appropriate subfield examples. “Health and clinical sciences” will be renamed “health sciences.” Some subfield examples will be updated in the various major S&E fields. The survey information can be used by Federal policy makers, planners, and budget analysts in making policy decisions, as well as by institutional academic officials, the scientific/engineering establishment, and state agencies and legislatures that fund universities. Detailed statistical tables and a summary InfoBrief are available at http://nsf.gov/statistics/srvyfacilities/. Data reports can also be run from the NSF Integrated Science and Engineering Resources Data System (WebCASPAR).

Expected Respondents: The Facilities Survey is a census of institutions that performed at least $1 million in separately budgeted science and engineering research and development in the previous fiscal year.

In the most recent FY 2013 Facilities Survey, a census of 588 academic institutions was conducted. The sampling frame used for the survey was the FY 2012 Higher Education Research and Development Survey conducted by the National Center for Science and Engineering Statistics. Data are collected through a Web-based interface, although institutions have the option of printing and completing a PDF that can be sent by mail.

Estimate of Burden: The Facilities Survey will be sent to approximately 600 academic institutions for the FY 2015 and FY 2017 data collection cycles. The completion time per academic institution is expected to average 19 hours, based on completion time estimates provided by all survey participants in the FY 2013 survey. This would result in an estimated burden of 11,210 hours per cycle.

Comments: As required by 5 CFR 1320.8(d), comments on the information collection activities as part of this study were solicited through publication of a 60-Day Notice in the Federal Register on March 23, 2015, at 80 FR 16030. We received no comments.

Dated: June 17, 2015.
Suzanne H. Plimpton,
Reports Clearance Officer, National Science Foundation.

[FR Doc. 2015-15352 Filed 6-22-15; 8:45 am]

BILLING CODE 7555-01-P